DEPARTMENT OF COMMERCE

International Trade Administration

[C-331-806]

Frozen Warmwater Shrimp From Ecuador: Preliminary Affirmative Countervailing Duty Determination and Alignment of Final Determination With Final Antidumping Duty Determination; Withdrawal

AGENCY: Enforcement and Compliance, International Trade Administration, Department of Commerce.

DATES: Applicable April 9, 2024, FR Doc. 2024-06949, published at 89 FR 22666 on April 2, 2024, is withdrawn.

FOR FURTHER INFORMATION CONTACT: Reginald Anadio or Zachary Shaykin, AD/CVD Operations, Office IV, Enforcement and Compliance, International Trade Administration, U.S. Department of Commerce, 1401 Constitution Avenue NW, Washington, DC 20230; telephone: (202) 482-3166 or (202) 482-2638, respectively.

SUPPLEMENTARY INFORMATION:

Background

On April 2, 2024, the U.S. Department of Commerce (Commerce) erroneously published a duplicate Federal Register notice titled Frozen Warmwater Shrimp from Ecuador: Preliminary Affirmative Countervailing Duty Determination and Alignment of Final Determination with Final Antidumping Duty Determination. Commerce is withdrawing the above-mentioned notice, Federal Register Doc. 2024-06949.

Notification to Interested Parties

This notice is issued and published pursuant to section 733(c)(2) of the Tariff Act of 1930, as amended, and 19 CFR 351.205(f)(1).

Dated: April 3, 2024.
Ryan Majerus,
Deputy Assistant Secretary for Policy and Negotiations, performing the non-exclusive functions and duties of the Assistant Secretary for Enforcement and Compliance.

[FR Doc. 2024-07448 Filed 4-8-24; 8:45 am]

BILLING CODE 3510-DS-P